LIBRARY OF CONGRESS

Copyright Royalty Board

37 CFR Part 370

[Docket No. 14-CRB-0005 (RM)]

Notice and Recordkeeping for Use of Sound Recordings Under Statutory License

AGENCY: Copyright Royalty Board, Library of Congress.

ACTION: Extension of Reply Comment Period.

DATES: Reply Comments deadline is extended to September 5, 2014.

SUMMARY: The Copyright Royalty Judges are extending the period for filing reply comments.

FOR FURTHER INFORMATION CONTACT: LaKeshia Keys (202) 707-7658 or email at crb@loc.gov.

Background

On May 2, 2014, the Copyright Royalty Judges (“Judges”) published a notice of proposed rulemaking (“NPRM”) seeking comment on two petitions for rulemaking. Comments were due by June 2, 2014. Reply comments were due by June 16, 2014. On May 22, 2014, the Judges entered an Order extending the time for comments and reply comments to June 30, and August 11, 2014, respectively.

The Judges were unable to post all of the initial comments until after the first week of July 2014. To afford parties adequate opportunity to respond to the comments, the Judges hereby extend the due date for reply comments to September 5, 2014.

Dated: July 22, 2014.
Suzanne M. Barnett,
Chief Copyright Royalty Judge.
Approved by:
James H. Billington,
Librarian of Congress.

[FR Doc. 2014-18500 Filed 8-4-14; 8:45 am]

BILLING CODE 1410-72-P